DEPARTMENT OF COMMERCE

International Trade Administration

[A-533-889]

Certain Quartz Surface Products From India: Final Results of Antidumping Duty Administrative Review; 2019-2021

AGENCY: Enforcement and Compliance, International Trade Administration, Department of Commerce.

SUMMARY: The U.S. Department of Commerce (Commerce) determines that certain quartz surface products (QSP) from India was sold in the United States at less than normal value during the period of review (POR), December 13, 2019, through May 31, 2021.

DATES: Applicable January 9, 2023.

FOR FURTHER INFORMATION CONTACT: David Lindgren or Charles Doss, AD/CVD Operations, Office III, Enforcement and Compliance, International Trade Administration, U.S. Department of Commerce, 1401 Constitution Avenue NW, Washington, DC 20230; telephone: (202) 482-1671 or (202) 482-4474, respectively.

SUPPLEMENTARY INFORMATION:

Background

On July 8, 2022, Commerce published the Preliminary Results for this review in the Federal Register and invited interested parties to comment on those results.¹ Between August 17 and 24, 2022, Commerce received case briefs on behalf of Cambria Company LLC (the petitioner), Antique Group,² Arizona Tile et al.,³ Architectural Surfaces Group, LLC, DSG et al.,⁴ Federation of Indian Quartz Surface Industry (the Federation), GlobalFair Technologies Pvt., and Jessie-Kan et al.5 6 Subsequently, the petitioner, Arizona Tile et al., the Federation, and Pokarna Engineered Stone Limited (PESL) each submitted rebuttal briefs on August 25, 2022.⁷ In addition, between August 15 and 17, 2022, certain other parties filed letters in lieu of case briefs.⁸

¹ See Certain Quartz Surface Products from India: Preliminary Results of Antidumping Duty Administrative Review and Partial Rescission of Antidumping Duty Administrative Review; 2019-2021, 87 FR 40786 (July 8, 2022) (Preliminary Results), and accompanying Preliminary Decision Memorandum.

² Antique Marbonite Private Limited, India; Shivam Enterprises and Prism Johnson Limited (collectively, Antique Group).

³ Arizona Tile, M S International, Inc. and PNS Clearance LLC (collectively, Arizona Tile et al.).

⁴ DivyaShakti Granites Limited, DivyaShakti Limited, Quartzkraft LLP,Marudhar Rocks International Pvt. Ltd, International Stones India Pvt. Ltd, Aro Granite Industries, Ltd, Paradigm Granite Pvt., Ltd and Paradigm Stone India Pvt. Ltd., Indian Exporters and Producers, and U.S. Importers Cosmos Granite (West) LLC, Cosmos Granite (South East) LLC, Cosmos Granite (South West) LLC, Dwyer Marble & Stone, and OHM International (collectively, DSG et al.).

⁵ Jessie-Kan Granite Incorporated, Hilltop Stones Pvt. Ltd. and Colors of Rainbow; and Jessie-Kan Granite Inc. (collectively, Jessie-Kan et al.).

⁶ See Memorandum, “Certain Quartz Surface Products from India: Issues and Decision Memorandum for the Final Results of Antidumping Duty Administrative Review; 2019-2021,” dated concurrently with, and hereby adopted by, this notice (Issues and Decision Memorandum).

⁷ Id.

⁸ Id.

Commerce extended the deadline for the final results on October 14, 2022, by 31 days and on November 30, 2022, by 29 days.⁹ The deadline for the final results of this review is now January 4, 2023. For a complete description of the events that occurred since the Preliminary Results, see the Issues and Decision Memorandum.¹⁰

⁹ See Memoranda, “Extension of Time Limit for the Final Results of Antidumping Duty Administrative Review, 2019-2021,” dated October 14, 2022; and “Extension of Time Limit for the Final Results of Antidumping Duty Administrative Review, 2019-2021,” dated November 30, 2022.

¹⁰ See Issues and Decision Memorandum.

Scope of the Order ¹¹

¹¹ See Certain Quartz Surface Products from India and Turkey: Antidumping Duty Orders, 85 FR 37422 (June 22, 2020) (Order).

The products covered by the Order are QSP from India. For a complete description of the scope, see the Issues and Decision Memorandum.

Analysis of Comments Received

All issues raised in the case and rebuttal briefs are addressed in the Issues and Decision Memorandum. A list of the issues that parties raised and to which we responded in the Issues and Decision Memorandum is attached at Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to the margin calculation for PESL, as well as the selection of the rate for non-selected companies. For a discussion of these changes, see the Issues and Decision Memorandum.¹²

¹² See Issues and Decision Memorandum at Comments 1 and 5.

Use of Adverse Facts Available

We continue to find that the application of facts available with an adverse inference (AFA), pursuant to sections 776(a) and (b) of the Tariff Act of 1930, as amended (the Act), is warranted in determining Antique Group's dumping margin because it failed to cooperate to the best of its ability.¹³ Therefore, as in the Preliminary Results, as AFA, we assigned Antique Group a dumping margin of 323.12 percent. See the Issues and Decision Memorandum for further discussion.¹⁴

¹³ See Preliminary Results.

¹⁴ See Issues and Decision Memorandum at Comment 4.

Rates for Companies Not Selected for Individual Examination

The statute and Commerce's regulations do not address the establishment of a rate to be applied to individual companies not selected for examination when Commerce limits its examination in an administrative review pursuant to section 777A(c)(2) of the Act. Generally, Commerce looks to section 735(c)(5) of the Act, which provides instructions for calculating the all-others rate in an investigation, for guidance when calculating the rate for companies which we did not examine in an administrative review.

When the rates for individually examined companies are all zero, de minimis, or based entirely on facts available, section 735(c)(5)(B) of the Act provides that Commerce may use “any reasonable method” to establish the all-others rate.

We calculated a zero percent dumping margin for one of the mandatory respondents in this review, PESL, and we based the dumping margin on facts available with an adverse inference for the other mandatory respondent, Antique Group. Upon further review, Commerce has determined that a reasonable method to establish the rate for the 51 non-selected companies subject to this administrative review is by relying on the all-others rate calculated in the initial investigation of this Order,¹⁵ consistent with the guidance in section 735(c)(5)(B) of the Act.¹⁶ These 51 exporters are listed in Appendix II. For additional discussion, see the Issues and Decision Memorandum.

¹⁵ See Certain Quartz Surface Products from India: Final Determination of Sales at Less Than Fair Value and Final Negative Determination of Critical Circumstances, 85 FR 25391, 25392 (May 1, 2020) (Final Determination); see also Issues and Decision Memorandum at Comment 5.

¹⁶ See, e.g., Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

Final Results of Review

Commerce determines that the following weighted-average dumping margins exist for the period December 13, 2019, through May 31, 2021:

Producer and/or exporter | Weighted- average dumping margin (percent)
Pokarna Engineered Stone Limited | 0.00
Antique Marbonite Private Limited, India/Shivam Enterprises (Shivam)/Prism Johnson Limited (Prism Johnson) | 323.12
Non-Selected Companies | 3.19

Assessment Rate

Pursuant to section 751(a)(2)(A) of the Act, and 19 CFR 351.212(b)(1), Commerce shall determine, and U.S. Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), for PESL, we calculated importer-specific antidumping duty assessment rates by aggregating the total amount of dumping calculated for the examined sales of each importer and dividing each of these amounts by the total entered value associated with those sales. Where either the respondent's weighted-average dumping margin is zero or de minimis within the meaning of 19 CFR 351.106(c)(1), or an importer-specific assessment rate is zero or de minimis, we will instruct CBP to liquidate the appropriate entries without regard to antidumping duties. Commerce's “automatic assessment” will apply to entries of subject merchandise during the POR produced by PESL for which it did not know that the merchandise it sold to an intermediary (e.g., a reseller, trading company, or exporter) was destined for the United States. In such instances, we will instruct CBP to liquidate unreviewed entries at the all-others rate if there is no rate for the intermediate company(ies) involved in the transaction.

Because we are applying total AFA to Antique Group, we will instruct CBP to apply an assessment rate to all entries Antique Group produced and/or exported equal to the dumping margin indicated above in the “Final Results of Review.” Further, the assessment rate for antidumping duties for each of the companies not selected for individual examination will be equal to the weighted-average dumping margin identified above in the “Final Results of Review.”

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” section will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 1.02 percent, the rate established in the investigation of this proceeding.¹⁷ These cash deposit requirements, when imposed, shall remain in effect until further notice.

¹⁷ See Final Determination, 85 FR at 25392.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or an increase in the amount of antidumping duties by the amount of the countervailing duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: December 30, 2022.
Lisa W. Wang,
Assistant Secretary for Enforcement and Compliance.

Appendix I

List of Topics Discussed in the Issues and Decision Memorandum

I. Summary

II. Background

III. Scope of the Order

IV. Changes Since the Preliminary Results

V. Discussion of the Issues

Comment 1: Source of PESL's Constructed Value (CV) Information

Comment 2: Whether Commerce Should Accept Antique Group's Supplemental Questionnaire Response

Comment 3: Whether Commerce Should Continue to Apply AFA to Antique Group

Comment 4: Whether Commerce Should Continue to Rely on the Petition Rate for the AFA Rate

Comment 5: Whether Commerce Should Rely on a Different Method for Selecting the Non-Selected Company Rate

Comment 6: Changes to Preliminary Draft Customs Instructions

VI. Recommendation

Appendix II

List of Companies Not Selected for Individual Examination

Alicante Surfaces Pvt., Ltd.

Antique Granito Shareholders Trust

Argil Ceramic Private Limited

ARO Granite Industries Limited

Asian Granito India Ltd

Baba Super Minerals Pvt. Ltd.

Camrola Quartz Limited

Chaitanya International Minerals LLP

Chariot International Pvt. Ltd.

Colors Of Rainbow

Creative Quartz LLP

Cuarzo

Divyashakti Granites Limited

Esprit Stones Pvt., Ltd.

Globalfair Technologies Pvt.

Glowstone Industries Private Limited

Gupta Marbles

Gyan Chand Lodha

Hi Elite Quartz LLP

Hilltop Stones Pvt., Ltd.

Inani Marbles and Industries Ltd.

International Stones India Private Limited

Jennex Granite Industries

Jessie Kan Granite Inc.

Keros Stone LLP

M.B. Granites Private Ltd.

Mahi Granites Private Limited.

Malbros Marbles & Granites Industries

Marudhar Rocks International Pvt. Ltd.

Mountmine Imp. & Exp. Pvt., Ltd.

P.M. Quartz Surfaces Pvt., Ltd.

Pacific Industries Limited

Pacific Quartz Surfaces LLP

Pangaea Stone International Private Ltd.

Paradigm Granite Pvt., Ltd.

Paradigm Stone India Private Limited

Pelican Quartz Stone

Quartzkraft LLP

Rocks Forever

Rose Marbles Ltd.

Safayar Ceramics Private Ltd.

Satya Exports

Southern Rocks and Minerals Private Limited

Stone Imp. & Exp. (India) Pvt., Ltd.

Stoneby India LLP

Sunex Stones Private Ltd.

Tab India Granites Pvt., Ltd.

Ultima International

Vishwas Ceramic

Vishwas Exp.

Yash Gems

[FR Doc. 2023-00149 Filed 1-6-23; 8:45 am]

BILLING CODE 3510-DS-P